DEPARTMENT OF COMMERCE

International Trade Administration

Export Trade Certificate of Review

ACTION: Notice of Issuance of an Amended Export Trade Certificate of Review, Application No. 84-17A12.

SUMMARY: On September 28, 2006, The U.S. Department of Commerce issued an amended Export Trade Certificate of Review to Northwest Fruit Exporters (“NFE”).

FOR FURTHER INFORMATION CONTACT: Jeffrey C. Anspacher, Director, Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2004).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate: The original NFE Certificate (No. 84-00012) was issued on June 11, 1984 (49 FR 24581, June 14, 1984), and last amended on December 2, 2005 (70 FR 73731, December 13, 2005).

NFE's Export Trade Certificate of Review has been amended to:

1. Add each of the following companies as a new “Member” of the Certificate within the meaning of section 325.2(1) of the Regulations (15 C.F.R. 325.2(1)): Fox Orchards, Mattawa, Washington; Prentice Packing & Storage, Inc., Yakima, Washington; and Yakima Fresh, Yakima, Washington;

2. Delete the following companies as “Members” of the Certificate: Bardin Farms Corp., Monitor, Washington; Bertha's Marketing Inc., Wenatchee, Washington; Bolinger & Sons, Wenatchee, Washington; Cervantes Packing and Storage, L.L.C., Sunnyside, Washington; SST Growers and Packers L.L.C., Granger, Washington; and Yakima-Roche Fruit Sales L.L.C., Yakima, Washington; and

3. Change the listing of the following “Member”: Sage Marketing L.L.C., Yakima Washington to the new listing Sage Fruit Company, L.L.C., Yakima, Washington.

The effective date of the amended certificate is June 30, 2006. A copy of the amended certificate will be kept in the International Trade Administration's Freedom of Information Records Inspection Facility, Room 4100, U.S. Department of Commerce, 14th Street and Constitution Avenue, NW., Washington, DC 20230.

Dated: September 28, 2006.
Jeffrey Anspacher,
Director, Export Trading Company Affairs.

[FR Doc. E6-16410 Filed 10-4-06; 8:45 am]

BILLING CODE 3510-DR-P